FEDERAL COMMUNICATIONS COMMISSION

47 CFR Part 73

[DA 00-2230, MM Docket No. 00-186, RM-9970]

Radio Broadcasting Services; Rapid City, South Dakota, Gillette, Wyoming

AGENCY: Federal Communications Commission.

ACTION: Proposed rule.

SUMMARY: The Commission requests comments on a petition filed by Bethesda Christian Broadcasting, Inc. (“petitioner”), licensee of Station KLMP, Rapid City South Dakota, requesting the substitution of Channel 250C for 250C1 at Rapid City, and the modification of Station KLMP's license accordingly, and the substitution of Channel 282A for vacant Channel 249A at Gillette, Wyoming, to accommodate its upgrade. Channel 250C can be allotted at Rapid City, South Dakota, at coordinates 44-19-42 and 103-50-03. Channel 282A can be allotted at Gillette, Wyoming at coordinates 44-17-36 and 105-30-06.

DATES: Comments must be filed on or before November 20, 2000, and reply comments on or before December 5, 2000.

ADDRESSES: Federal Communications Commission, 445 12th Street, S.W., Room TW-A325, Washington, DC 20554. In addition to filing comments with the FCC, interested parties should serve the petitioner, or its counsel or consultant, as follows: Bethesda Christian Broadcasting, Inc. P.O. Box 168, Rapid City, SD 57709 (petitioner); J. Dominic Monahan, Luvaas, Cobb, Richards and Fraser, 300 Forum Building, 777 High Street, P.O. Box 10747, Eugene, OR 97401 (Counsel to petitioner).

FOR FURTHER INFORMATION CONTACT: Victoria M. McCauley, Mass Media Bureau, (202) 418-2180.

SUPPLEMENTARY INFORMATION: This is a synopsis of the Commission's Notice of Proposed Rule Making, MM Docket No. 00-186, adopted September 20, 2000, and released September 29, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

Federal Communications Commission.
John A. Karousos,
Chief, Allocations Branch, Policy and Rules Division, Mass Media Bureau.

[FR Doc. 00-26191 Filed 10-11-00; 8:45 am]

BILLING CODE 6712-01-P